DEPARTMENT OF COMMERCE

Office of the Secretary

[Docket No. 120131080-2080-01]

Public Availability of Department of Commerce FY2011 Service Contract Inventory

AGENCY: Office of the Secretary, Department of Commerce.

ACTION: Notice of Public Availability of FY 2011 Service Contract Inventories.

SUMMARY: In accordance with Section 743 of Division C of the Consolidated Appropriations Act of 2010 (Pub. L. 111-117), the Department of Commerce is publishing this notice to advise the public of the availability of the Fiscal Year (FY) 2011 Service Contract Inventory and a report that analyzes the Department's FY 2010 Service Contract Inventory. The service contract inventory provides information on service contract actions over $25,000 made in FY 2011. The information is organized by function to show how contracted resources are distributed throughout the agency. The inventory has been developed in accordance with guidance memo on service contract inventories issued on November 5, 2010 by the Office of Management and Budget's Office of Federal Procurement Policy (OFPP).

ADDRESSES: The Department of Commerce has posted its FY 2011 inventory and a summary on the Office of Acquisition Management homepage at the following link http://www.osec.doc.gov/oam/. OFPP's guidance memo on service contract inventories is available at http://www.whitehouse.gov/sites/default/files/omb/procurement/memo/service-contract-inventories-guidance-11052010.pdf.

FOR FURTHER INFORMATION CONTACT: Questions regarding the service contract inventory should be directed to Virna Winters, Director for Acquisitions and Grants Division at 202-482-4248 or vwinters@doc.gov.

Scott Quehl,
Chief Financial Officer and Assistant Secretary for Administration.

[FR Doc. 2012-5160 Filed 3-1-12; 8:45 am]

BILLING CODE P